DEPARTMENT OF TRANSPORTATION

Surface Transportation Board

[STB Finance Docket No. 35321]

KM Railways, LLC—Acquisition Exemption—Old Augusta Railroad, LLC

KM Railways, LLC (KMR), a noncarrier, has filed a verified notice of exemption under 49 CFR 1150.31 to acquire an approximately 2.5-mile rail line owned by Old Augusta Railroad, LLC (OAR), extending from New Augusta (Station No. FSAC 10) to Augusta (Station No. FSAC 20), in Perry County, MS (line).¹ According to KMR, KMR will acquire the line from OAR pursuant to an executed Asset Purchase Agreement, and, in a related transaction, KMR will lease the track and other physical assets needed to operate the line back to OAR.

¹ KMR states that there are no branch lines and no mileposts.

This transaction is related to a concurrently filed verified notice of exemption in STB Finance Docket No. 35319, Old Augusta Railroad, LLC—Lease and Operation Exemption—KM Railways, LLC, wherein OAR has filed a notice of exemption to lease and operate the line.

The transaction is expected to be consummated on or shortly after December 18, 2009 (30 days after the exemption was filed).

KMR certifies that, as a result of this transaction, it will not become a Class II or Class I rail carrier. In addition, KMR provides that its projected annual revenues will not exceed $5 million.²

² By letter filed on November 23, 2009, KMR supplemented the notice of exemption advising the Board that the projected annual revenues of KMR will not exceed $5 million.

Pursuant to the Consolidated Appropriations Act, 2008, Public Law 110-161, § 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than December 11, 2009 (at least 7 days before the exemption becomes effective).

An original and 10 copies of all pleadings, referring to STB Finance Docket No. 35321, must be filed with the Surface Transportation Board, 395 E Street, SW., Washington, DC 20423-0001. In addition, a copy of each pleading must be served on David H. Coburn, Steptoe & Johnson LLP, 1330 Connecticut Avenue, NW., Washington, DC 20036.

Board decisions and notices are available on our Web site at: http://www.stb.dot.gov.

Decided: November 30, 2009.
By the Board, Rachel D. Campbell, Director, Office of Proceedings.
Jeffrey Herzig,
Clearance Clerk.

[FR Doc. E9-28927 Filed 12-3-09; 8:45 am]

BILLING CODE 4915-01-P